DEPARTMENT OF ENERGY

Federal Energy Regulatory Commission

[Project No. 460-001 Washington]

Tacoma Public Utilities; Notice of Teleconference

May 18, 2001.

a. Date and Time of Teleconference: Thursday, May 31, 2001 at 1:00 pm (EDT).

b. FERC Contact: Patrick Murphy at 202-219-2659, patrick.murphy@ferc.fed.us

c. Purpose of the Teleconference: To clarify the additional information requested by the U.S. Fish and Wildlife Service, in a letter dated February 1, 2001, to prepare a biological opinion on the effect of relicensing and operating the Cushman Hydroelectric Project, FERC No. 460, Mason County, Washington, on the federally listed as threatened distinct population segment of Coastal-Puget Sound bull trout (Salvelinus confluentus).

d. Only the FWS and the Commission are consulting parties for purposes of the teleconference. However, the License applicant and other interested parties to the relicensing proceeding will be permitted to provide relevant information, consistent with the limited purpose of the teleconference. Any party wishing to participate in the teleconference should notify Mr. Patrick Murphy of the Commission staff at 202-219-2659 by May 29, 2001. Those participants who are located in the project area (i.e., western Washington state) are asked to coordinate with other participant locations to minimize the telephone connection sites. Details of the connection procedure will also be provided when you contact Mr. Murphy. Please contact Mr. Lynn Childers, FWS, Lacey, WA at 360-753-5831, to coordinate consolidation of telephone connection sites.

Linwood A. Watson, Jr.,
Acting Secretary.

[FR Doc. 01-13096 Filed 5-23-01; 8:45 am]

BILLING CODE 6717-01-M